DEPARTMENT OF COMMERCE

National Oceanic and Atmospheric Administration

RIN 0648-AV80

Fisheries of the Caribbean, Gulf of Mexico, and South Atlantic; Reef Fish Fishery of the Gulf of Mexico; Environmental Assessment for Amendment 30B

AGENCY: National Marine Fisheries Service (NMFS), National Oceanic and Atmospheric Administration (NOAA), Commerce.

ACTION: Notice announcing the preparation of an environmental assessment (EA).

SUMMARY: NMFS, in cooperation with the Gulf of Mexico Fishery Management Council (Council), is preparing an EA in accordance with the National Environmental Policy Act (NEPA) for Amendment 30B to the Fishery Management Plan (FMP) for the Reef Fish Resources of the Gulf of Mexico. This notice is intended to inform the public of the change from the preparation of a draft environmental impact statement (EIS) to an EA for Amendment 30B.

FOR FURTHER INFORMATION CONTACT: Peter Hood; phone: (727) 824-5305; fax: (727) 824-5308; email: Peter.Hood@noaa.gov.

SUPPLEMENTARY INFORMATION: On March 5, 2007 (72 FR 9734), NMFS and the Council published a Notice of Intent in the Federal Register to prepare a draft EIS and to announce scoping meetings regarding the actions proposed in Amendment 30. Amendment 30 was being developed to describe and analyze management alternatives to manage fishing mortality and to establish status criteria for greater amberjack, gray triggerfish, gag, and red grouper in accordance with the Magnuson-Stevens Fishery Conservation and Management Act. Recent stock assessments completed under the Southeast Data, Assessment, and Review program indicated that management changes were warranted for these stocks.

Based on comments received during the scoping process and further analyses needed for the gag and red grouper stock assessments, Amendment 30 was split into Amendments 30A and 30B. This allowed proposed actions to revise the greater amberjack rebuilding plan, end overfishing of gray triggerfish, and rebuild the gray triggerfish stock to proceed in Amendment 30A while the status of the gag and red grouper stocks were resolved. A draft supplemental EIS was prepared for Amendment 30A, in part, due to significant increases in the stock biomass of greater amberjack and gray triggerfish as the two species recover from their respective overfished states. A Notice of Availability for the draft supplemental EIS analyzing impacts on the human environment for Amendment 30A was published in the Federal Register on December 14, 2007 (72 FR 71137).

Actions to be described and analyzed in Amendment 30B include: setting gag thresholds and benchmarks; establishing gag and red grouper total allowable catch (TAC), interim allocations, and accountability measures; ending overfishing of gag; managing gag and red grouper commercial and recreational harvests consistent with TAC; reducing grouper discard mortality; establishing marine reserves; and requiring compliance with Federal fishery management regulations by federally permitted reef fish vessels when fishing in state waters. Based on further analysis of the environmental impacts of actions proposed in Amendment 30B, NMFS and the Council do not anticipate any significant impacts on the human environment. Although overfishing would end for gag based on the proposed actions, the stock is not considered overfished and significant increases in stock biomass are not required. Consequently, NMFS and the Council are initially preparing an EA rather than proceeding with the development of a draft EIS. If the EA results in a Finding of No Significant Impact (FONSI), the EA and FONSI will be the final environmental documents required by NEPA. If the EA reveals that significant environmental impacts may be reasonably expected to result from the proposed actions, NMFS and the Council will develop a draft EIS to further evaluate those impacts.

Authority: 16 U.S.C. 1801 et seq.

Dated: March 3, 2008.
Alan D. Risenhoover,
Director, Office of Sustainable Fisheries, National Marine Fisheries Service.

[FR Doc. E8-4542 Filed 3-6-08; 8:45 am]

BILLING CODE 3510-22-S